DEPARTMENT OF ENERGY

Federal Energy Regulatory Commission

[Project Nos. 400-043 and 12589-000-Colorado]

Public Service Company of Colorado; Notice of Scoping Meetings and Site Visits

July 13, 2005.

a. Type of Filings: Notice of Intent to File License Applications for New Licenses; Pre-Application Documents; Commencement of Licensing Proceedings.

b. Project Nos.: 400-043 and 12589-000.

c. Dated Filed: May 20, 2005.

d. Submitted By: Public Service Company of Colorado (PSCo)

e. Name of Projects: Tacoma Hydroelectric Project No. 12589 and Ames Hydroelectric Project No. 400.

f. Locations: The Tacoma Hydroelectric Project is located on Cascade Creek, Little Cascade Creek, Elbert Creek, and the Animas River in La Plata and San Juan Counties, Colorado. The Tacoma Project occupies lands of the San Juan National Forest.

The Ames Hydroelectric Project is located on the Lake Fork, Howards Fork, and South Fork of the San Miguel River, in San Miguel County, Colorado. The Ames Project occupies lands of the Uncompahgre National Forest.

g. Filed Pursuant to: 18 CFR part 5 of the Commission's Regulations.

h. Potential Applicant Contact: Alfred Hughes, Supervisor, Hydro West, Xcel Energy, P.O. Box 8098, Durango, Colorado 81301 (970) 247-8363.

i. FERC Contact: David Turner (202) 502-6091 or via e-mail at david.turner@ferc.gov.

j. PSCo filed Pre-Application Documents (PADs) for the Tacoma and Ames Projects, including proposed process plans and schedules, with the Commission pursuant to 18 CFR 5.6 of the Commission's regulations. PSCo is seeking a separate license for each development; both are currently licensed under the Tacoma-Ames Project No. 400.

k. Copies of the PADs and Scoping Document 1 (SD1) are available for review at the Commission in the Public Reference Room or may be viewed on the Commission's Web site (http://www.ferc.gov), using the “eLibrary” link. Enter the docket number, excluding the last three digits, in the docket number field to access the document. For assistance, contact FERC Online Support at FERCONlineSupport@ferc.gov or toll free at 1-866-208-3676, or for TTY, (202) 502-8659. A copy is also available for inspection and reproduction at the address in paragraph h.

Register online at http://ferc.gov/esubscribenow.htm to be notified via e-mail of new filings and issuances related to these or other pending projects. For assistance, contact FERC Online Support.

l. With this notice, we are soliciting comments on SD1. All comments on SD1 should be sent to the address above in paragraph h. In addition, all comments on the PADs and SD1, study requests, requests for cooperating agency status, and all communications to Commission staff related to the merits of the potential applications (original and eight copies) must be filed with the Commission at the following address: Magalie R. Salas, Secretary, Federal Energy Regulatory Commission, 888 First Street, NE., Washington, DC 20426. All filings with the Commission relevant to the Tacoma Hydroelectric Project must include on the first page, the project name, (Tacoma Hydroelectric Project) and number (P-12589-000), and bear the heading, as appropriate, “Comments on Scoping Document 1.” All filings with the Commission relevant to the Ames Project must include on the first page, the project name (Ames Hydroelectric Project) and number (P-400-043) on the first page, and the appropriate heading as noted above. Any individual or entity interested in commenting on SD1 must do so by September 20, 2005.

Comments on SD1 and other permissible forms of communications with the Commission may be filed electronically via the Internet in lieu of paper. The Commission strongly encourages electronic filings. See 18 CFR 385.2001(a)(1)(iii) and the instructions on the Commission's Web site (http://www.ferc.gov) under the “e-filing” link.

m. At this time, Commission staff intends to prepare a single Environmental Assessment for the project, in accordance with the National Environmental Policy Act.

Scoping Meetings

We will hold two scoping meetings for each project at the times and places noted below. The daytime meetings will focus on resource agency, Indian tribes, and non-governmental organization concerns, while the evening meetings are primarily for receiving input from the public. We invite all interested individuals, organizations, Indian tribes, and agencies to attend one or all of the meetings, and to assist staff in identifying particular study needs, as well as the scope of environmental issues to be addressed in the environmental document. The times and locations of these meetings are as follows:

Tacoma Scoping Meeting

Evening Scoping Meeting

Date and Time: August 9, 2005, from 7 p.m. to 9 p.m. (MST).

Location: Doubletree Hotel Durango, 501 Camino del Rio, Durango, Colorado.

Daytime Scoping Meeting

Date and Time: August 10, 2005, from 9 a.m. to 3 p.m. (MST).

Location: Doubletree Hotel Durango, 501 Camino del Rio, Durango, Colorado.

AMES Scoping Meeting

Evening Scoping Meeting

Date and Time: August 11, 2005, from 7 p.m. to 9 p.m. (MST).

Location: Telluride Conference Center, 580 Mountain Village Boulevard, Telluride, Colorado.

Daytime Scoping Meeting

Date and Time: August 12, 2005, from 9 a.m. to 3 p.m. (MST).

Location: Telluride Conference Center, 580 Mountain Village Boulevard, Telluride, Colorado.

For Directions: Contact Alfred Hughes at (970) 247-8363.

SD1, which outlines the subject areas to be addressed in the environmental document, has been mailed to the individuals and entities on the Commission's mailing list. Copies of SD1 will be available at the scoping meetings, or may be viewed on the Web at http://www.ferc.gov, using the “eLibrary” link. Follow the directions for accessing information in paragraph k. Depending on the extent of comments received, a Scoping Document 2 (SD2) may or may not be issued.

Site Visits

A site visit will be held for each project. Those interested in participating in either the Tacoma or Ames project site visits must notify Alfred Hughes of their intent at 970-247-8363 by August 1, 2005. All participants attending either site visit should be prepared to provide their own transportation. Anyone with questions about the site visits (or for directions) should contact Alfred Hughes. Details for each site visit are provided below.

Tacoma Site Visit

The Tacoma Project site visit will be held on August 9, 2005. All persons interested in seeing the Tacoma Project should meet at the Electra Sporting Club House parking lot on Electra Lake at 12 p.m. Due to access constraints, we will not be touring the powerhouse. Contact Alfred Hughes to inquire about separate tours of the powerhouse.

Ames Site Visit

The Ames Project site visit will be held on August 11, 2005. All persons interested in seeing the Ames Project should meet at the project recreation facilities on Trout Lake, immediately off of State Highway 145 at 8:30 a.m.

Scoping Meeting Objectives

At the scoping meetings, staff will: (1) Present the proposed list of issues to be addressed in the EA; (2) review and discuss existing conditions and resource agency management objectives; (3) review and discuss existing information and identify preliminary information and study needs; (4) review and discuss the process plan and schedule for pre-filing activity that incorporates the time frames provided for in Part 5 of the Commission's regulations and, to the extent possible, maximizes coordination of federal, state, and tribal permitting and certification processes; and (5) discuss requests by any federal or state agency or Indian tribe acting as a cooperating agency for development of an environmental document.

Meeting participants should come prepared to discuss their issues and/or concerns. Please review the Pre-Application Document in preparation for the scoping meetings. Directions on how to obtain a copy of the PAD and SD1 are included in item k of this notice.

Scoping Meeting Procedures

The scoping meetings will be recorded by a stenographer and will become part of the formal Commission records for the projects.

n. A notice of intent to file license applications, filing PADs, solicitation of comments on the PAD and SD1, solicitation of study requests, and commencement of proceedings will be issued by July 20, 2005, setting the date for filing comments on the PAD and study requests in accordance with Commission regulations and the proposed process plan.

Magalie R. Salas,
Secretary.

[FR Doc. E5-3819 Filed 7-18-05; 8:45 am]

BILLING CODE 6717-01-P